NATIONAL AERONAUTICS AND SPACE ADMINISTRATION

Centennial Challenges 2014 Unmanned Aircraft Systems (UAS) Airspace Operations Challenge (AOC)

AGENCY: National Aeronautics and Space Administration (NASA).

NOTICE: (13-110).

ACTION: Notice.

SUMMARY: This notice is issued in accordance with 51 U.S.C. 20144(c).

The Unmanned Aircraft Systems (UAS) Airspace Operations Challenge (AOC) is scheduled and teams that wish to compete may now register. Centennial Challenges is a program of prize competitions to stimulate innovation in technologies of interest and value to NASA and the nation. The 2014 UAS AOC is a prize competition designed to encourage development of new technologies or application of existing technologies in unique ways to how unpiloted or remotely piloted aircraft can safely operate in the same airspace as other aircraft, such as piloted aircraft, robotic aircraft, and their operators. NASA is providing the prize purse.

DATES: 2014 UAS AOC will be held April 28-May 2, 2014.

ADDRESSES: 2014 UAS AOC will be conducted at Camp Atterbury Joint Maneuver Training Center located near Edinburgh, Indiana.

FOR FURTHER INFORMATION CONTACT: To register for or get additional information regarding the 2014 UAS AOC, please visit: http://www.uasaoc.org

For general information on the NASA Centennial Challenges Program please visit: http://www.nasa.gov/challenges. General questions and comments regarding the program should be addressed to Dr. Larry Cooper, Centennial Challenges Program, NASA Headquarters 300 E Street SW., Washington, DC, 20546-0001. Email address:hq-stmd-centennialchallenges@mail.nasa.gov.

SUPPLEMENTARY INFORMATION:

Summary

Competitor vehicles will fly a series of missions that will require them to safely address many of the technical issues important to integrating UAS in the National Airspace System. Several different types of scoring will apply during a single mission, depending upon the mission goals and the types of contingency situations that occur. Competitors will not have advance knowledge of the scenarios they will encounter and different teams will encounter scenarios in different sequences. The competitors will be provided with a standardized electronic module that will collect flight data that will be used as the reference for assigning scores.

I. Prize Amounts

The total UAS AOC purse is $500,000 (five hundred thousand U.S. dollars). Prizes will be offered for entries that meet specific requirements detailed in the Rules.

II. Eligibility

To be eligible to win a prize, competitors must (1) register and comply with all requirements in the rules and team agreement; (2) in the case of a private entity, shall be incorporated in and maintain a primary place of business in the United States, and in the case of an individual, whether participating singly or in a group, shall be a citizen or permanent resident of the United States; and (3) shall not be a Federal entity or Federal employee acting within the scope of their employment.

III. Rules

The complete rules and team agreement for the 2014 UAS AOC can be found at: http://www.uasaoc.org

Dated: September 23, 2013.
James J. Reuther,
Deputy Associate Administrator for Programs, Space Technology Mission Directorate, National Aeronautics and Space Administration.

[FR Doc. 2013-23757 Filed 9-27-13; 8:45 am]

BILLING CODE 7510-13-P